DEPARTMENT OF AGRICULTURE

Submission for OMB Review; Comment Request

April 20, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 26, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agriculture Statistics Service

Title: Agricultural Surveys Program.

OMB Control Number: 0535-0213.

Summary of Collection: National Agriculture Statistics Service (NASS) primary functions are to prepare and issue state and national estimates of crop and livestock production and collect information on related environmental and economic factors. The Agricultural Surveys Program is a series of surveys that contains basic agricultural data from farmers and ranchers throughout the Nation for preparing agricultural estimates and forecasts. The surveys results provide the foundation for setting livestock and poultry inventory numbers. Estimates derived from the surveys supply information needed by farmers to make decisions for both short and long-term planning. The General authority for these data collection is granted under U.S. Code Title 7, Section 2204(a). Individually identifiable data collected under this authority are governed by Section 1770 of the Food Security Act of 1985, as amended, 7 U.S.C, 2276, which requires USDA to afford strict confidentially to non-aggregated data provided by respondents.

Due to the COVID-19 virus situation, NASS will not conduct the 2020 June Area Survey (JAS) because it requires face-to-face enumeration. To obtain crops, cattle, hog, and sheep and goat area indications, non-overlap (NOL) samples will be added to the 2020 Agricultural, Cattle, Hog and Sheep and Goats List samples. NASS will identify NOL entities by overlapping 2019 JAS tracts with the 2020 ELMO List Frame. In addition, NASS will conduct an expanded Agricultural Land Value survey that encompasses all States. NASS plans to resume conducting the June Area Survey in 2021.

In addition, through cooperative agreements with the USDA, Animal and Plant Health Inspection Service (APHIS) and several State governments, NASS will be including some additional predator loss questions to the 2021 and 2022 Cattle, and Sheep and Goat Surveys.

Need and Use of the Information: The surveys provide the basis for estimates of the current season's crop and livestock production and supplies of grain in storage. Crop and livestock statistics help develop a stable economic atmosphere and reduce risk for production, marketing, and distribution operations. These commodities affect the well being of the nation's farmers, commodities markets, and national and global agricultural policy. Users of agricultural statistics are farm organizations, agribusiness, state and national farm policy makers, and foreign buyers of agricultural products but the primary user of the statistical information is the producer. Agricultural statistics are also used to plan and administer other related federal and state programs in such areas as school lunch program, conservation, foreign trade, education, and recreation. Collecting the information less frequent would eliminate needed data to keep the government and agricultural industry abreast of changes at the state and national levels.

Description of Respondents: Farms.

Number of Respondents: 551,600.

Frequency of Responses: Reporting: Quarterly; Semi-annually; Monthly; Annually.

Total Burden Hours: 175,583.

Ruth Brown,
Departmental Information Collection Clearance Officer.

[FR Doc. 2020-08677 Filed 4-23-20; 8:45 am]

BILLING CODE 3410-20-P